DEPARTMENT OF ENERGY

Federal Energy Regulatory Commission

[Docket No. EL16-76-000]

Transource Wisconsin, LLC; Notice of Institution of Section 206 Proceeding and Refund Effective Date

On June 23, 2016, the Commission issued an order in Docket No. EL16-76-000, pursuant to section 206 of the Federal Power Act (FPA), 16 U.S.C. 824e (2012), instituting an investigation into whether the formula rate protocols of Transource Wisconsin, LLC may be unjust, unreasonable, unduly discriminatory or preferential. Transource Wisconsin, LLC, 155 FERC ¶ 61,302 (2016).

The refund effective date in Docket No. EL16-76-000, established pursuant to section 206(b) of the FPA, will be the date of publication of this notice in the Federal Register.

Dated: June 24, 2016.
Nathaniel J. Davis, Sr.,
Deputy Secretary.

[FR Doc. 2016-15559 Filed 6-29-16; 8:45 am]

BILLING CODE 6717-01-P